FEDERAL MARITIME COMMISSION

[Docket No. 17-09]

Fiat Chrysler Automobiles NV, FCA US LLC and FCA Italy S.P.A., V. Wallenius Wilhelmsen Logistics AS, Wallenius Wilhelmsen Logistics Americas LLC, EUKOR Car Carriers INC., Nippon Yusen Kabushiki Kaisha, NYK Line (North America) INC., Mitsui O.S.K. Lines, LTD., MOL (America) INC., Kawasaki Kisen Kaisha, LTD.,”K” Line America, INC., Compañía Sud Americana De Vapores, And Hoëgh Autoliners AS, Notice of Filing of Complaint and Assignment

Notice is given that a Complaint has been filed with the Federal Maritime Commission (Commission) by Fiat Chrysler Automobiles NV, FCA US LLC, and FCA Italy S.p.A, hereinafter “Complainants,” against the above named companies, hereinafter “Respondents.” Complainants allege that Respondents are ocean common carriers, and indicate that since 1997, Complainants have “purchased hundreds of millions of dollars' worth of roll on, roll off cargo services from Respondents.”

Complainants allege that Respondents “have conspired and acted in concert to suppress competition for roll on, roll off cargo shipping services” in violation of “46 U.S.C. 40302(a), 41102(b)(1), 41102(c), 41103(a)(1), 41103(2), 41104(10), 41105(1) and 41105(6), and the regulations promulgated thereunder, 46 CFR 535.401 et seq.,” as Respondents “failed to file their agreements to fix prices, allocate customers and/or artificially restrain capacity”, and charged Complainants fees “in accordance with these unfiled agreements.”

Complainants have “suffered financial damages in amount to be determined . . .” Complainants request the following relief:

1. “That Respondents be required to answer the charges herein;

2. That, after due investigation and hearing, Respondents be found to have violated 46 U.S.C. 40302(a), 41102(b)(1), 41102(c), 41103(a)(1), 41103(2) 41104(10), 41105(1), and 41105(6), and 46 CFR 535.401 et seq.;

3. That the FMC order Respondents to stop violating the Shipping Act;

4. That [Complainants] be awarded reparations in a sum to be proven under 46 U.S.C. 41305, interest (46 U.S.C. 41305(a)) and reasonable attorneys' fees (46 U.S.C. 41305(b));

5. That [Complainants] be awarded double its proven injury under 46 U.S.C. 41305(c) because Respondents and their co-conspirators violated 46 U.S.C. 41102(b) and 41105(1);

6. That Respondents be found jointly and severally liable for the conduct alleged herein and any reparations awarded;

7. That such other and further order be made as the FMC determines to be proper; and

8. [Complaints] request a hearing and asks that the hearing be held in Washington, DC.”

The full text of the complaint can be found in the Commission's Electronic Reading Room at www.fmc.gov/17-09.

This proceeding has been assigned to the Office of Administrative Law Judges. The initial decision of the presiding officer in this proceeding shall be issued by October 17, 2018 and the final decision of the Commission shall be issued by May 1, 2019.

Rachel E. Dickon,
Assistant Secretary.

[FR Doc. 2017-22969 Filed 10-23-17; 8:45 am]

BILLING CODE 6731-AA-P